DEPARTMENT OF THE INTERIOR

Fish and Wildlife Service

[Docket No. FWS-HQ-MB-2019-0004; FF09M21200-189-FXMB1231099BPP0]

Migratory Bird Hunting; Service Regulations Committee Meeting

AGENCY: Fish and Wildlife Service, Interior.

ACTION: Notice of meeting.

SUMMARY: The U.S. Fish and Wildlife Service (hereinafter Service) will conduct an open meeting on April 23, 2019, to identify and discuss preliminary issues concerning the 2020-21 migratory bird hunting regulations.

DATES: The meeting will be held April 23, 2019. The meeting will commence at approximately 10:30 a.m. and is open to the public.

ADDRESSES: The Service Regulations Committee meeting will meet at the Westin Denver International Airport, 8300 Pena Boulevard, Denver, CO 80249; (303) 317-1800.

FOR FURTHER INFORMATION CONTACT: Ron W. Kokel, U.S. Fish and Wildlife Service, Department of the Interior, MS: MB, 5275 Leesburg Pike, Falls Church, VA 22041-3803; (703) 358-1967.

SUPPLEMENTARY INFORMATION: Under the authority of the Migratory Bird Treaty Act (16 U.S.C. 703-712), the Service regulates the hunting of migratory game birds. We update the migratory game bird hunting regulations, located in title 50 of the Code of Federal Regulations in part 20, annually. Through these regulations, we establish the frameworks, or outside limits, for season lengths, bag limits, and areas for migratory game bird hunting. To help us in this process, we have administratively divided the nation into four Flyways (Atlantic, Mississippi, Central, and Pacific), each of which has a Flyway Council. Representatives from the Service, the Service's Migratory Bird Regulations Committee, and Flyway Council Consultants will meet on April 23, 2019, at 11 a.m., to identify preliminary issues concerning the 2020-21 migratory bird hunting regulations for discussion and review by the Flyway Councils at their August and September meetings.

In accordance with Department of the Interior (hereinafter Department) policy regarding meetings of the Service Regulations Committee attended by any person outside the Department, these meetings are open to public observation. The Service is committed to providing access to this meeting for all participants. Please direct all requests for sign language interpreting services, closed captioning, or other accommodation needs to the person listed under FOR FURTHER INFORMATION CONTACT, TTY 800-877-8339, with your request by close of business on April 15, 2019.

Dated: March 8, 2019.
Noah Matson,
Acting Assistant Director, Migratory Birds, U.S. Fish and Wildlife Service.

[FR Doc. 2019-07077 Filed 4-8-19; 8:45 am]

BILLING CODE 4333-15-P